DEPARTMENT OF COMMERCE

International Trade Administration

[A-122-838]

Notice of Second Amended Final Results of Antidumping Duty Administrative Review: Certain Softwood Lumber Products From Canada

AGENCY: Import Administration, International Trade Administration, Department of Commerce.

EFFECTIVE DATE: February 14, 2006.

FOR FURTHER INFORMATION CONTACT: Constance Handley or Salim Bhabhrawala, at (202) 482-0631 or (202) 482-1784, respectively; AD/CVD Operations, Office 1, Import Administration, International Trade Administration, U.S. Department of Commerce, 14th Street & Constitution Avenue, NW., Washington, DC 20230.

SUPPLEMENTARY INFORMATION: On December 12, 2005, the Department of Commerce (the Department) determined that certain softwood lumber products from Canada are being sold in the United States at less than fair value, as provided in section 751(a) of the Tariff Act of 1930, as amended (the Act). See Notice of Final Results of Antidumping Duty Administrative Review: Certain Softwood Lumber Products from Canada, 70 FR 73437 (December 12, 2005) (Final Results). On January 23, 2006, the Department published its amended final results. See Notice of Amended Final Results of Antidumping Duty Administrative Review: Certain Softwood Lumber Products from Canada 71 FR 3458.¹ On January 25, 2006, The Maritime Lumber Bureau and certain of its individual members ² (collectively, the Maritimes) filed a timely ministerial error allegation pursuant to 19 CFR 351.224(c)(2). The petitioner ³ did not rebut this allegation.

¹ In the published amended final results, some of the margins were mis-stated due to a Federal Register formatting problem. The Federal Register published a correction on January 30, 2006. See Notice of Amended Final Results of Antidumping Duty Administrative Review: Certain Softwood Lumber Products from Canada: Correction 71 FR 4968 (January 30, 2006).

² See letter from the Maritimes Lumber Bureau to the Department, dated January 25, 2006, at Exhibit A for a list of companies included in the allegation.

³ The petitioner in this case is the Coalition for Fair Lumber Imports Executive Committee. We note that during the review, submissions have been made interchangeably by the petitioner itself and by the Coalition for Fair Lumber Imports, a domestic interested party. For ease of reference, we will use the term “petitioner” to refer to submissions by either, although we recognize that the Coalition for Fair Lumber Imports is not the actual petitioner.

Scope of the Order

The products covered by this order are softwood lumber, flooring and siding (softwood lumber products). Softwood lumber products include all products classified under headings 4407.1000, 4409.1010, 4409.1090, and 4409.1020, respectively, of the Harmonized Tariff Schedule of the United States (HTSUS), and any softwood lumber, flooring and siding described below. These softwood lumber products include:

(1) coniferous wood, sawn or chipped lengthwise, sliced or peeled, whether or not planed, sanded or finger-jointed, of a thickness exceeding six millimeters;

(2) coniferous wood siding (including strips and friezes for parquet flooring, not assembled) continuously shaped (tongued, grooved, rabbeted, chamfered, v-jointed, beaded, molded, rounded or the like) along any of its edges or faces, whether or not planed, sanded or finger-jointed;

(3) other coniferous wood (including strips and friezes for parquet flooring, not assembled) continuously shaped (tongued, grooved, rabbeted, chamfered, v-jointed, beaded, molded, rounded or the like) along any of its edges or faces (other than wood moldings and wood dowel rods) whether or not planed, sanded or finger-jointed; and

(4) coniferous wood flooring (including strips and friezes for parquet flooring, not assembled) continuously shaped (tongued, grooved, rabbeted, chamfered, v-jointed, beaded, molded, rounded or the like) along any of its edges or faces, whether or not planed, sanded or finger-jointed.

Although the HTSUS subheadings are provided for convenience and U.S. Customs and Border Protection (CBP) purposes, the written description of the merchandise under investigation is dispositive. Preliminary scope exclusions and clarifications were published in three separate Federal Register notices.

Softwood lumber products excluded from the scope:

• trusses and truss kits, properly classified under HTSUS 4418.90

• I-joist beams

• assembled box spring frames

• pallets and pallet kits, properly classified under HTSUS 4415.20

• garage doors

• edge-glued wood, properly classified under HTSUS 4421.90.97.40 (formerly HTSUS 4421.90.98.40)

• properly classified complete door frames

• properly classified complete window frames

• properly classified furniture

Softwood lumber products excluded from the scope only if they meet certain requirements:

• Stringers (pallet components used for runners): if they have at least two notches on the side, positioned at equal distance from the center, to properly accommodate forklift blades, properly classified under HTSUS 4421.90.97.40 (formerly HTSUS 4421.90.98.40).

• Box-spring frame kits: if they contain the following wooden pieces—two side rails, two end (or top) rails and varying numbers of slats. The side rails and the end rails should be radius-cut at both ends. The kits should be individually packaged, they should contain the exact number of wooden components needed to make a particular box spring frame, with no further processing required. None of the components exceeds 1” in actual thickness or 83” in length.

• Radius-cut box-spring-frame components, not exceeding 1” in actual thickness or 83” in length, ready for assembly without further processing. The radius cuts must be present on both ends of the boards and must be substantial cuts so as to completely round one corner.

• Fence pickets requiring no further processing and properly classified under HTSUS 4421.90.70, 1” or less in actual thickness, up to 8” wide, 6' or less in length, and have finials or decorative cuttings that clearly identify them as fence pickets. In the case of dog-eared fence pickets, the corners of the boards should be cut off so as to remove pieces of wood in the shape of isosceles right angle triangles with sides measuring 3/4 inch or more.

• U.S. origin lumber shipped to Canada for minor processing and imported into the United States, is excluded from the scope of this order if the following conditions are met: 1) the processing occurring in Canada is limited to kiln-drying, planing to create smooth-to-size board, and sanding, and (2) the importer establishes to CBP's satisfaction that the lumber is of U.S. origin.⁴

⁴ For further clarification pertaining to this exclusion, see the additional language concluding the scope description below.

• Softwood lumber products contained in single family home packages or kits,⁵ regardless of tariff classification, are excluded from the scope of the orders if the following criteria are met:

⁵ To ensure administrability, we clarified the language of this exclusion to require an importer certification and to permit single or multiple entries on multiple days, as well as instructing importers to retain and make available for inspection specific documentation in support of each entry.

1. The imported home package or kit constitutes a full package of the number of wooden pieces specified in the plan, design or blueprint necessary to produce a home of at least 700 square feet produced to a specified plan, design or blueprint;

2. The package or kit must contain all necessary internal and external doors and windows, nails, screws, glue, subfloor, sheathing, beams, posts, connectors and, if included in purchase contract, decking, trim, drywall and roof shingles specified in the plan, design or blueprint;

3. Prior to importation, the package or kit must be sold to a retailer of complete home packages or kits pursuant to a valid purchase contract referencing the particular home design plan or blueprint, and signed by a customer not affiliated with the importer;

4. The whole package must be imported under a single consolidated entry when permitted by CBP, whether or not on a single or multiple trucks, rail cars or other vehicles, which shall be on the same day except when the home is over 2,000 square feet;

5. The following documentation must be included with the entry documents:

• a copy of the appropriate home design, plan, or blueprint matching the entry;

• a purchase contract from a retailer of home kits or packages signed by a customer not affiliated with the importer;

• a listing of inventory of all parts of the package or kit being entered that conforms to the home design package being entered;

• in the case of multiple shipments on the same contract, all items listed immediately above which are included in the present shipment shall be identified as well.

We have determined that the excluded products listed above are outside the scope of this order provided the specified conditions are met. Lumber products that CBP may classify as stringers, radius cut box-spring-frame components, and fence pickets, not conforming to the above requirements, as well as truss components, pallet components, and door and window frame parts, are covered under the scope of this order and may be classified under HTSUS subheadings 4418.90.40.90, 4421.90.70.40, and 4421.90.98.40. Due to changes in the 2002 HTSUS whereby subheading 4418.90.40.90 and 4421.90.98.40 were changed to 4418.90.45.90 and 4421.90.97.40, respectively, we are adding these subheadings as well.

In addition, this scope language has been further clarified to now specify that all softwood lumber products entered from Canada claiming non-subject status based on U.S. country of origin will be treated as non-subject U.S.-origin merchandise under the antidumping and countervailing duty orders, provided that these softwood lumber products meet the following condition: upon entry, the importer, exporter, Canadian processor and/or original U.S. producer establish to CBP's satisfaction that the softwood lumber entered and documented as U.S.-origin softwood lumber was first produced in the United States as a lumber product satisfying the physical parameters of the softwood lumber scope.⁶ The presumption of non-subject status can, however, be rebutted by evidence demonstrating that the merchandise was substantially transformed in Canada.

⁶ See the scope clarification message (3034202), dated February 3, 2003, to CBP, regarding treatment of U.S.-origin lumber on file in the Central Records Unit, Room B-099 of the main Commerce Building.

Amended Final Results

In accordance with section 751(h) of the Act, we have determined that a ministerial error was made in our Final Results assessment rate calculation for the Maritimes. This error did not affect any of the published cash deposit rates. For a detailed discussion of the ministerial error allegation and the Department's analysis, see Memorandum to Stephen J. Claeys, Antidumping Duty Administrative Review of Certain Softwood Lumber Products from Canada, regarding Ministerial Error Allegation, dated February 7, 2006, which is on file in the Central Records Unit (“CRU”), room B-099 of the main Department building.

In accordance with section 751(h) of the Act and 19 CFR 351.224(e), we are amending the amended final results of the antidumping duty administrative review of lumber from Canada to correct this ministerial error.

The weighted-average dumping margins for the period May 1, 2003, through April 30, 2004, which have not changed since the amended final, are listed below:

Producer/Exporter | Original Weighted-Average Margin (Percentage) | Amended Weighted-Average Margin (Percentage)
Abitibi | 2.52 | 2.52
(and its affiliates Abitibi Consolidated Company of Canada.⁷
Produits Forestiers Petit Paris Inc.,
Produits Forestiers La Tuque Inc.
Produits Forestiers Sagenay Inc.
and Societe En Commandite Scierie Opticiwan)
Buchanan | 2.86 | 2.76
(and its affiliates Atikokan Forest Products Ltd.
Long Lake Forest Products Inc.
Nakina Forest Products Limited.⁸
Buchanan Distribution Inc., Buchanan Forest Products Ltd.
Great West Timber Ltd., Dubreuil Forest Products Ltd.
Northern Sawmills Inc., McKenzie Forest Products Inc.
Buchanan Northern Hardwoods Inc., Northern Wood
and Solid Wood Products Inc. )
Canfor⁹ | 1.36 | 1.35
(and its affiliates Canfor Wood Products Marketing Ltd.
Canadian Forest Products, Ltd.
Bois Daaquam Inc./Daaquam Lumber Inc.
Lakeland Mills Ltd.
The Pas Lumber Company Ltd./Winton Sales
Howe Sound Pulp and Paper Limited Partnership
Winton Global Lumber Ltd., and Skeena Cellulose)
Tembec | 4.02 | 4.02
(and its affiliates Marks Lumber Ltd., Excel Forest Products
Les Industries Davidson Inc.
Produits Forestiers Temrex Limited Partnership
Tembec Industries Inc., Spruce Falls Inc.)
Tolko | 3.09 | 3.09
(and its affiliates Gilbert Smith Forest Products Ltd.
Compwood Products Ltd., and Pinnacle Wood Products Ltd. )
Weldwood | 0.61 | 0.61
West Fraser | 0.51 | 0.51
(and its affiliates West Fraser Forest Products Inc.
and Seehta Forest Products Ltd.)
Weyerhaeuser4.434.43
(and its affiliate Weyerhaeuser Saskatchewan Ltd.)
REVIEW-SPECIFIC AVERAGE RATE APPLICABLE TO THE FOLLOWING COMPANIES: ¹⁰
2 by 4 Lumber Sales Ltd.
605666 BC Ltd.
9027-7971 Quebec Inc. (Scierie Marcel Dumont)
9098-5573 Quebec Inc. (K.C.B. International)
A. L. Stuckless & Sons Limited
AJ Forest Products Ltd.
Alexandre Cote Ltee.
Allmac Lumber Sales Ltd.
Allmar International
Alpa Lumber Mills Inc.
American Bayridge Corporation
Apex Forest Products, Inc.
Apollo Forest Products Limited
Aquila Cedar Products Ltd.
Arbutus Manufacturing Limited
Ardew Wood Products, Ltd.
Armand Duhamel & Fils Inc.
Ashley Colter (1961) Limited
Aspen Planers Ltd.
Atco Lumber
Atlantic Pressure Treating Ltd.
Atlantic Warehousing Limited/Atlantic Warehousing Ltd.
Atlas Lumber (Alberta) Ltd.0
AWL Forest Products
B & L Forest Products Ltd.
Bakerview Forest Products Inc.
Bardeaux et Cedres St-Honore Inc. (Bardeaux et Cedres)
Barrett Lumber Company/Barrett Lumber Company Limited
Barrette-Chapais Ltee.
Barry Maedel Woods & Timber
Bathurst Lumber (Division of UPM-Kymmene Miramichi Inc.)
Beaubois Coaticook Inc.
Blackville Lumber (Division of UPM-Kymmene Miramichi Inc.)
Blanchette et Blanchette Inc.
Bloomfield Lumber Limited
Bois Cobodex (1995) Inc.
Bois De L'Est F.B. Inc.
Bois Granval G.D.S. Inc.
Bois Kheops Inc.
Bois Marsoui G.D.S. Inc.
Bois Neos Inc.
Bois Nor Que Wood Inc.
Boisaco Inc.
Boscus Canada Inc.
Boucher Forest Products Ltd.
Bowater Canadian Forest Products Inc.
Bowater Incorporated
Bridgeside Forest Industries, Ltd.
Bridgeside Higa Forest Industries Ltd.
Brittania Lumber Company Limited
Brouwer Excavating Ltd.
Brunswick Valley Lumber/Brunswick Valley Lumber Inc.
Buchanan Lumber
Busque & Laflamme Inc.
BW Creative Wood
Byrnexco Inc.
C. E. Harrison & Son Ltd./C. E. Harrison & Son Limited
Caledon Log Homes (FEWO)
Caledonia Forest Products Ltd.
Cambie Cedar Products Ltd.
Canadian Lumber Company Ltd.
Cando Contracting Ltd.
Canex International Lumber Sales Ltd.
CanWel Building Materials Ltd.
CanWel Distribution Ltd.
Canyon Lumber Company Ltd.
Cape Cod Wood Siding Inc.
Cardinal Lumber Manufacturing & Sales Inc.
Careau Bois Inc.
Carrier & Begin Inc
Carrier Forest Products Ltd.
Carrier Lumber Ltd.
Carson Lake Lumber
Cattermole Timber
CDS Lumber Products
Cedarland Forest Products Ltd.
Cedrico Lumber Inc. (Bois d'Oeuvre Cedrico Inc.)
Central Cedar Ltd.
Centurion Lumber Manufacturing (1983) Ltd.
Chaleur Sawmills
Chasyn Wood Technologies Inc.
Cheminis Lumber Inc.
Cheslatta Forest Products Ltd.
Chisholm's (Roslin) Ltd.
Choicewood Products Inc.
City Lumber Sales and Services Limited
Clair Industrial Dev. Corp. Ltd./Clair Industrial Development Corp. Ltd.
Clermond Hamel Ltee.
Coast Clear Wood Ltd.
Colonial Fence Mfg. Ltd.
Columbia Mills Ltd.
Comeau Lumber Limited
Commonwealth Plywood Company Ltd. dba Bois Clo-Val (formerly Bois Clo-Val Inc.), W.C. Edwards Lumber (formerly The W.C. Edwards Co., Ltd.) and Les Enterprises Atlas (formerly Les Enterprises Atlas (1985) Inc.)
Cooper Creek Cedar Ltd.
Cottles Island Lumber Co. Ltd.
Cowichan Lumber Ltd.
Crystal Forest Industries Ltd.
Curley Cedar Post & Rail
Cushman Lumber Company Inc.
D. S. McFall Holdings Ltd.
Dakeryn Industries Ltd.
Deep Cove Lumber
Delco Forest Products/Delco Forest Products Ltd.
Delta Cedar Products
Devlin Timber Company (1992) Limited
Devon Lumber Co. Ltd.
Doman Forest Products Limited
Doman Industries Limited
Doman Western Lumber Ltd.
Domexport Inc.
Domtar Inc.
Downie Timber Ltd.
Dunkley Lumber Ltd.
E. Tremblay Et. Fils Ltee.
Eacan Timber Canada Ltd.
Eacan Timber Limited/Eacan Timber Ltd.
Eacan Timber USA Ltd.
East Fraser Fiber Co. Ltd.
Eastwood Forest Products Inc.
Ed Bobocel Lumber 1993 Ltd.
Edwin Blaikie Lumber Ltd.
Elmira Wood Products Limited
Elmsdale Lumber Company Ltd./Elmsdale Lumber Co., Ltd.
ER Probyn Export Ltd.
Errington Cedar Products
Evergreen Empire Mills Incorporated
EW Marketing
F.L. Bodogh Lumber Co. Ltd.
Falcon Lumber Limited
Faulkner Wood Specialties Limited
Federated Co-operatives Limited
Fenclo Ltee.
Finmac Lumber Limited
Fontaine Inc. (dba J. A. Fontaine et fils Incorporee), Bois Fontaine Inc.
Gestion Natanis Inc., and Les Placements Jean-Paul Fontaine Ltee.¹¹
Forex Log & Lumber
Forstex Industries Inc.
Forwest Wood Specialties Inc.
Fraser Pacific Forest Products Inc.
Fraser Pacific Lumber Company
Fraser Papers Inc.
Fraser Pulp Chips Ltd.
Frasierview Cedar Products Ltd.
Frontier Mills Inc.
G.D.S. Valoribois Inc.
Galloway Lumber Co. Ltd.
Gerard Crete & Fils Inc.
Gestofor Inc.
Gogama Forest Products
Goldwood Industries Ltd.
Gorman Bros. Lumber Ltd.
Great Lakes MSR Lumber Ltd.
Greenwood Forest Products
Groupe Lebel
H. A. Fawcett & Son Limited
H. J. Crabbe & Sons Ltd.
Haida Forest Products Ltd.
Hainesville Sawmill Ltd.
Harrison's Home Building Centers
Harry Freeman & Son Ltd./Harry Freeman & Son Limited
Hefler Forest Products Ltd.
Hi-Knoll Cedar Inc.
Hilmoe Forest Products Ltd.
Hoeg Brothers Lumber Ltd.
Holdright Lumber Products Ltd.
Hudson Mitchell & Sons Lumber Inc.
Hughes Lumber Specialties Inc.
Hyak Specialty Wood Products Ltd.
Industrial Wood Specialties
Industries G.D.S. Inc.
Industries Perron Inc.
Interior Joinery Ltd.
International Forest Products Ltd.
Isidore Roy Limited
Ivor Forest Products Ltd.
J & G Logworks
J. A. Turner & Sons (1987) Limited
J.D. Irving, Ltd.
J.S. Jones Timber Ltd.
Jackpine Engineered Wood Products
Jackpine Forest Products Ltd.
Jackpine Group of Companies
Jamestown Lumber Company Limited/Jamestown Lumber Company Ltd.
Jasco Forest Products Ltd.
Jeffery Hanson
Julimar Lumber Co. Limited
Kenora Forest Products Ltd.
Kent Trusses Ltd.
Kenwood Lumber Ltd.
Kispiox Forest Products
Kitwanga Lumber Co. Ltd.
Kruger, Inc.
La Crete Sawmills Ltd.
Lakeburn Lumber Limited
Lamco Forest Products
Landmark Structural Lumber
Landmark Truss & Lumber Inc.
Langely Timber Company Ltd.
Langevin Forest Products, Inc.
Lattes Waska Laths Inc.
Lawsons Lumber Company Ltd.
Lecours Lumber Co. Limited
Ledwidge Lumber Co., Ltd.
Leggett & Platt (B.C.) Ltd.
Leggett & Platt Inc.
Leggett & Platt Ltd.
Les Bois d'Oeuvre Beaudoin & Gauthier Inc.
Les Bois S &P Grondin Inc.
Les Chantiers Chibougamau Ltee
Les Produits Forestiers D. G. Ltee.
Les Produits Forestiers Dube Inc.
Les Produits Forestiers F.B.M. Inc.
Les Produits Forestiers Maxibois Inc.
Les Produits Forestiers Miradas Inc.(Miradas Forest Products Inc.)
Les Scieries Du Lac St-Jean Inc.
Les Scieries Jocelyn Lavoie Inc.
Leslie Forest Products Ltd.
Lignum Ltd.
Lindsay Lumber Ltd.
Liskeard Lumber Limited
Littles Lumber Ltd.
Lonestar Lumber Inc.
Louisiana Pacific Corporation
Lousiana Malakwa
LP Canada Ltd.
LP Engineered Wood Products Ltd.
Lulumco Inc.
Lyle Forest Products Ltd.
M & G Higgins Lumber Ltd.
M. L. Wilkins & Son Ltd.
MacTara Limited
Maibec Industries Inc. (Industries Maibec Inc.)
Manitou Forest Products Ltd.
Maple Creek Saw Mills Inc.
Marcel Lauzon Inc.
Marine Way
Marwood Inc.
Marwood Ltd.
Materiaux Blanchet Inc.
Max Meilleur et Fils Ltee.
McCorquindale Holdings Ltd.
McNutt Lumber Company Ltd.
Mercury Manufacturing Inc.
Meunier Lumber Company Ltd.
MF Bernard Inc.
Mid America Lumber
>Mid Valley Lumber Specialties Ltd.
Midway Lumber Mills Ltd.
Mill & Timber Products Ltd.
Millar Western Forest Products Ltd.
Millco Wood Products Ltd.
Miramichi Lumber Products
Mobilier Rustique (Beauce) Inc.
Monterra Lumber Mills Limited
Mountain View Specialty Reload Inc.
Murray A Reeves Forestry Limited
Murray Bros. Lumber Company Limited
N. F. Douglas Lumber Limited/N. F. Douglas Lumber Ltd.
Nechako Lumber Co., Ltd.
Newcastle Lumber Co. Inc.
Nexfor Inc.
Nexfor Norbord
Nicholson and Cates Limited
Nickel Lake Lumber
Norbord Industries Inc.
Norbord Juniper and Norbord's sawmills at La Sarre Senneterre Quebec
NorSask Forest Products Inc.
North American Forest Products/North American Forest Products Ltd.
North American Forest Products Ltd. (Division Belanger)
North Atlantic Lumber Inc.
North Enderby Distribution Ltd. (N.E. Distribution)
North Enderby Timber Ltd.
North Mitchell Lumber Co. Ltd., Saran Cedar
North Shore Timber Ltd.
North Star Wholesale Lumber Ltd.
Northchip Ltd.
Northland Forest Products Ltd.
Olav Haavaldsrud Timber Company Limited
Olympic Industries Inc.
Optibois Inc.
P.A. Lumber & Planning Limited
Pacific Lumber Company
Pacific Lumber Remanufacturing Inc.
Pacific Northern Rail Contractors Corp.
Pacific Specialty Wood Products Ltd. (formerly Clearwood Industries Ltd.)
Pacific Wood Specialties
Pallan Timber Products Ltd.
Palliser Lumber Sales Ltd.
Pan West Wood Products Ltd.
Paragon Ventures Ltd. (Vernon Kiln and Millwork, Ltd. and 582912 BC, Ltd.)
Parallel Wood Products Ltd.
Pastway Planing Limited
Pat Power Forest Products Corporation
Patrick Lumber Company
Paul Vallee Inc.
Peak Forest Products Ltd.
Pharlap Forest Products Inc.
Pheonix Forest Products Inc.
Pleasant Valley Remanufacturing Ltd.
Pope & Talbot Inc./Pope & Talbot Ltd.
Porcupine Wood Products Ltd.
Portbec Forest Products Ltd. (Les Produits Forestiers Portbec Ltee.)
Portelance Lumber Capreol Ltd.
Power Wood Corp.
Precibois Inc.
Preparabois (2003) Inc.
Prime Lumber Limited
Pro Lumber Inc.
P. Proulx Forest Products Inc. (aka Proulx, Proulx Forest Products Inc. and Produits Forestiers P. Proulx Inc.)
Produits Forestiers Arbec Inc.¹²
Promobois G.D.S. Inc.
R. Fryer Forest Products Limited
Raintree Forest Products Inc.
Raintree Lumber Specialties Ltd.
Ramco Lumber Ltd.
Redtree Cedar Products Ltd.
Redwood Value Added Products Inc.
Rembos Inc.
Rene Bernard Inc.
Ridgewood Forest Products Ltd./Ridgewood Forest Products Limited
Rielly Industrial Lumber Inc.
Riverside Forest Products Limited
Rocam Lumber Inc. (Bois Rocam Inc.)
Rojac Cedar Products Inc.
Rojac Enterprises Inc.
Roland Boulanger & Cie Ltee.
Russell White Lumber Limited
Sauder Moldings, Inc. (Ferndale)
Sauder Industries Limited
Scierie A&M St-Pierre Inc.
Scierie Adrien Arseneault Ltee.
Scierie Alexandre Lemay & Fils Inc.
Scierie Chaleur/Scierie Chaleur Associes
Scierie Dion et Fils Inc.
Scierie Gallichan Inc.
Scierie Gauthier Ltee.
Scierie La Patrie, Inc.
Scierie Landrienne Inc.
Scierie Lapointe & Roy Ltee.
Scierie Leduc, Division of Stadacona Inc.
Scierie Nord-Sud Inc. (North-South Sawmill Inc.)
Scierie P.S.E. Inc.
Scierie St. Elzear Inc.
Scierie Tech Inc.
Scieries du Lac St. Jean Inc.
Selkirk Specialty Wood Ltd.
Sexton Lumber/Sexton Lumber Co. Limited
Seycove Forest Products Limited
Seymour Creek Cedar Products Ltd.
Shawood Lumber Inc.
Sigurdson Bros. Logging Company Ltd./Sigurdson Brothers Logging Company Ltd.
Silvermere Forest Products Inc.
Sinclar Enterprises Ltd.*
South Beach Trading Inc.
South River Planing Mills Inc.
South-East Forest Products Ltd.
Spray Lake Sawmills (1980) Ltd.
Spruce Forest Products Ltd.
Spruce Products Ltd.
St. Anthony Lathing Ltd.
Stag Timber
Stuart Lake Lumber Co. Ltd.
Stuart Lake Marketing Inc./Stuart Lake Marketing Corporation
Sunbury Cedar Sales Ltd.
Suncoast Lumber & Milling
Sundance Forest Industries
SWP Industries Inc.
Sylvanex Lumber Products Inc.
Tall Tree Lumber Company
Tarpin Lumber Incorporated
Taylor Lumber Company Ltd.
Teal Cedar Products Ltd.
Teal-Jones Group
Teeda Corp.
Terminal Forest Products Ltd.
T.F. Specialty Sawmill
TFL Forest Ltd./TimberWest Forest Corp./Timber West Forest Company
Timber Ridge Forest Products
TimberWorld Forest Products Inc.
T'loh Forest Products Limited
Top Quality Lumber Ltd.
T. P. Downey & Sons Ltd.
Treeline Wood Products Ltd.
Triad Forest Products
Twin Rivers Cedar Products Ltd.
Tyee Timber Products Ltd.
Uneeda Wood Products
Uniforet Inc.
Uniforet Scierie-Pate
Vancouver Specialty Cedar Products/Vancouver Specialty Cedar Products Ltd.
Vanderhoof Specialty Wood Products
Vandermeer Forest Products (Canada) Ltd.
Vanderwell Contractors (1971) Ltd.
Vanport Canada, Co.
Vernon Kiln and Millwork, Ltd.
Visscher Lumber Inc.
W. C. Edwards Lumber
W. I. Woodtone Industries Inc.
Welco Lumber Corporation
Wentworth Lumber Ltd.
Werenham Forest Products
West Bay Forest Products & Manufacturing Ltd./West Bay Forest Products and Manufacturing Ltd./West Bay Forest Products & Mfg. Ltd.
West Can Rail Ltd.
West Chilcotin Forest Products Ltd.
West Hastings Lumber Products
Western Forest Products Inc.¹³
WFP Forest Products Limited
WFP Lumber Sales Limited
WFP Western Lumber Ltd.
Weston Forest Corp.
West-Wood Industries/West-Wood Industries Ltd.
White Spruce Forst Products Ltd.
Wilfrid Paquet & Fils Ltee.
Wilkerson Forest Products Ltd.
Williams Brothers Limited/Williams Brothers Ltd.
Winnipeg Forest Products, Inc.
Woodko Enterprises, Ltd.
Woodland Forest Products Ltd.
Woodline Forest Products Ltd.
Woodtone Industries Inc.
Woodwise Lumber Ltd.
Wynndel Box & Lumber Co. Ltd.
Zelensky Bros. Forest Products | 2.11 | 2.10
⁷ Abitibi Consolidated Company of Canada was inadvertently omitted for the final results.
⁸ We note that Nakina Forest Products Limited is a division of Long Lake Forest Products, Inc., an affiliate of Buchanan Lumber Sales.
⁹ Canfor's weighted-average margin is based upon a weighted-average of Canfor's and Slocan's respective cash deposit rates prior to the merger. See Memorandum from Salim Bhabhrawala, International Trade Compliance Analyst to The File, Re: Analysis Memorandum For Canfor Corporation (December 5, 2005). We also note that, during the POR, Sinclar Enterprises Ltd. (Sinclar) acted as an affiliated reseller for Lakeland, an affiliate of Canfor. In this review, we reviewed the sales of Canfor and its affiliates; therefore, Canfor's weighted-average margin applies to all sales of subject merchandise produced by any member of the Canfor Group and sold by Sinclar. As Sinclar also separately requested a review, any sales of subject merchandise produced by another manufacturer and sold by Sinclar will receive the “Review-Specific Average” rate. Finally, we note that Canadian Forest Products, Ltd. is a wholly owned subsidiary of Canfor and will receive Canfor's weighted-average margin.
¹⁰ In the Preliminary Results, we listed companies on the review-specific rate list that did not request a review or have a review requested on them for the current review. Therefore, we have removed the following companies from the review specific-rate list for the final results: AFA Forest Products Inc., Associated Cedar Products, Ivis Wood Products, Lazy S Lumber, Mary's River Lumber, New West Lumber Ltd., Quadra Wood Products Ltd., Schols Cedar Products, Standard Building Products Ltd., Still Creek Forest Products Ltd., Taiga Forest Products, Western Cleanwood Preservers Ltd. and Western Wood Preservers Ltd. All of the above companies participated in the 1st Administrative Review and will continue to receive the review-specific average rate (3.78%) from that review.
¹¹ In the Preliminary Results, we incorrectly listed Les Placements Jean-Paul Fontaine Ltee. as Paul Fontaine Ltee. and also as Les Placements Jean-Paul Fontaine Ltee. To correct this error we have removed Paul Fontaine Ltee. from the review-specific average rate list.
¹² On October 13, 2005, we found that Produits Forestiers Arbec Inc. was the successor-in-interest to Unforet Inc. See Notice of Final Results of Antidumping Duty Changed Circumstances Review: Certain Softwood Lumber Products from Canada, 70 FR 59721 (October 13, 2005). We inadvertently omitted the new name in the final results and are including it here.
¹³ On August 19, 2005, we found that Western Forest Products Inc. and its subsidiaries, WFP Products Limited, WFP Western Lumber Ltd., and WFP Lumber Sales Limited, were the successors-in-interest to Doman Industries Limited, Doman Forest Products Limited, and Doman Western Lumber Ltd. See Notice of Final Results of Antidumping Duty Changed Circumstances Review: Certain Softwood Lumber Products from Canada, 70 FR 48673 (August 19, 2005). We inadvertently omitted the new names in the final results and are including them here.

Cash Deposit Rates

Furthermore, the following deposit requirements will be effective upon publication of the amended final results of this administrative review for all shipments of certain softwood lumber products from Canada entered, or 0withdrawn from warehouse, for consumption on or after the publication date of these final results, as provided by section 751(a) of the Act: 1) for companies covered by this review, the cash deposit rate will be the rate listed above; 2) for previously reviewed or investigated companies not listed above, the cash deposit rate will continue to be the company-specific rate published for the most recent period; 3) if the exporter is not a firm covered in this review, a prior review, or the original less-than-fair-value investigation, but the producer is, the cash deposit rate will be the rate established for the most recent period for the manufacturer of the merchandise; and 4) the cash deposit rate for all other producers or exporters will be 11.54 percent, the “All Others” rate calculated in the Department's recent determination under section 129 of the Uruguay Round Agreements Act. See Notice of Determination Under Section 129 of the Uruguay Round Agreements Act: Antidumping Measures on Certain Softwood Lumber Products from Canada, 70 FR 22636 (May 2, 2005). These deposit requirements shall remain in effect until publication of the final results of the next administrative review.

Assessment Rates

In accordance with section 19 CFR 356.8(a), the Department will issue appropriate assessment instructions directly to CBP on or after 41 days following the publication of these amended final results of review.

We are issuing and publishing this determination and notice in accordance with sections 751(a)(1), 751(h) and 771(i)(1) of the Act.

Dated: February 8, 2006.
David M. Spooner,
Assistant Secretary for Import Administration.

[FR Doc. E6-2090 Filed 2-13-06; 8:45 am]

BILLING CODE 3510-DS-S